SOCIAL SECURITY ADMINISTRATION

[Docket No. SSA-2012-0003]

Occupational Information Development Advisory Panel

AGENCY: Social Security Administration (SSA).

ACTION: Notice of the Charter Renewal for the Occupational Information Development Advisory Panel.

SUMMARY: Notice is hereby given that on January 6, 2012; our Commissioner renewed the Charter for the Occupational Information Development Advisory Panel (Panel). This discretionary Panel will provide independent advice and recommendations on plans and activities to create an occupational information system (OIS) tailored specifically for our disability programs and adjudicative needs. We require advice and recommendations on the use of occupational information in our disability programs and the research design of the OIS, including the development and testing of an OIS content model and taxonomy, work analysis instrumentation, sampling, and data collection and analysis.

Membership includes professionals from academia, private sector, and public entities, (e.g., Department of Labor) with expertise in one or more of the following subject areas: (a) Occupational analysis, design and development of occupational classifications, instrument design, labor market economics, sampling, data collection and analyses; (b) disability evaluation, vocational rehabilitation, forensic vocational assessment, and physical or occupational therapy; (c) occupational or physical rehabilitation medicine, psychiatry, or psychology; and (d) disability claimant advocacy.

The Panel will function solely as an advisory body and in compliance with the provisions of the Federal Advisory Committee Act. The charter was filed with the appropriate congressional committees.

For further information contact, Ms. Leola S. Brooks, Designated Federal Officer, Occupational Information Development Advisory Panel, Social Security Administration, 6401 Security Boulevard 3-E-26 Richard Ball Building, Baltimore, MD 21235-0001. Fax to (410) 597-0825, or Email to OIDAP@ssa.gov.

Leola S. Brooks,
Designated Federal Officer, Occupational Information Development Advisory Panel.

[FR Doc. 2012-678 Filed 1-13-12; 8:45 am]

BILLING CODE 4191-02-P